DEPARTMENT OF HEALTH AND HUMAN SERVICES

Centers for Disease Control and Prevention

Board of Scientific Counselors, Office of Public Health Preparedness and Response (BSC, OPHPR)

In accordance with section 10(a)(2) of the Federal Advisory Committee Act (Pub. L. 92-463), the Centers for Disease Control and Prevention (CDC), announces the following meeting of the aforementioned committee:

Times and Dates:

April 2, 2013 9:30 a.m.-3:00 p.m. (BSC, OPHPR meeting)

April 3, 2013 8:30 a.m.-3:30 p.m. (Joint meeting of the BSC, OPHPR and the National Biodefense Science Board [NBSB])

Place: CDC, 1600 Clifton Road NE., Roybal Campus, Building 19, Room 256 Atlanta, Georgia 30329.

Status: Open to the public limited only by the space available. The meeting room will accommodate up to 30 people. Public participants should pre-register for the meeting as described in Additional Information for Public Participants.

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm.

Matters To Be Discussed: Agenda items for this meeting include: (1) Briefings and BSC deliberation on the following topics: Public Health Preparedness and Response Policy Updates; improving critical information sharing across CDC; biosecurity risk evaluation software; measuring operational readiness; (2) BSC liaison representative updates to the Board highlighting organizational activities relevant to the OPHPR mission. Day 2 of the meeting will include a joint Federal Advisory Committee briefing with NBSB, deliberation and vote on the recommendations and report written by the joint BSC, OPHPR-NBSB Strategic National Stockpile ad hoc working group. [The National Biodefense Science Board (NBSB) was created under the authority of the Pandemic and All-Hazards Preparedness Act, signed into law on December 19, 2006. The Board is a FACA committee utilized by the Office of the Assistant Secretary for Preparedness and Response. The NBSB was established to provide expert advice and guidance to the Secretary of the U.S. Department of Health and Human Services (HHS) on scientific, technical, and other matters of special interest to HHS regarding activities to prevent, prepare for, and respond to adverse health effects of public health emergencies resulting from chemical, biological, nuclear, and radiological events, whether naturally occurring, accidental, or deliberate.]

Agenda items are subject to change as priorities dictate.

Additional Information for Public Participants: Members of the public that wish to attend this meeting should pre-register by submitting the following information by email, facsimile, or phone (see Contact Person for More Information) no later than 12:00 noon (EDT) on Monday, March 25, 2013:

• Full Name,

• Organizational Affiliation,

• Complete Mailing Address,

• Citizenship, and

• Phone Number or Email Address

Contact Person for More Information: Marquita Black, Office of Science and Public Health Practice Executive Assistant, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities for both the Centers for Disease Control and Prevention, and Agency for Toxic Substances and Disease Registry.

Elaine L. Baker,
Director, Management Analysis and Services Office, Centers for Disease Control and Prevention.

[FR Doc. 2013-05561 Filed 3-8-13; 8:45 am]

BILLING CODE 4163-18-P